DEPARTMENT OF ENERGY

Federal Energy Regulatory Commission

Notice of Intent To Prepare Environmental Assessment, Availability of Scoping Document, and Soliciting Scoping Comments

February 26, 2003.

Take notice that the following hydroelectric application has been filed with Commission and are available for public inspection:

a. Type of Application: New minor license.

b. Project No.: 12423-000.

c. Date filed: November 25, 2002.

d. Applicant: American Falls River District No. 2 and Big Wood Canal Company.

e. Name of Project: Lateral 993 Hydroelectric Project.

f. Location: Juncture of the 993 Lateral and North Gooding Main Canal, Boise Meridian, 20 miles northwest of the Town of Shoshone, Lincoln County, Idaho. The initial diversion is the Milner Dam on the Snake River. The North Gooding Main Canal is part of a U.S. Bureau of Reclamation (Bureau) project. The project would occupy about 10-15 acres of Federal land managed by the Bureau.

g. Filed Pursuant to: Federal Power Act, 16 U.S.C. 791(a)—825”).

h. Applicant Contact: Lynn Harmon, General Manager, American Falls Reservoir District No. 2 and Big Wood Canal Company, Box C, Shoshone, Idaho, 83352; (208) 886-2331.

i. FERC Contact: Allison Arnold at (202)502-6346 or allison.arnold@ferc.gov.

j. Deadline for filing scoping comments: 30 days from the issuance date of this notice.

All documents (original and eight copies) should be filed with: Magalie R. Salas, Secretary, Federal Energy Regulatory Commission, 888 First Street, NE., Washington, DC 20426.

The Commission's rules of practice and procedure require all interveners filing documents with the Commission to serve a copy of that document on each person on the official Service List for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “FERRIS” link.

k. This application is not ready for environmental analysis at this time.

l. The Lateral 993 Hydroelectric Power Project would consist of:

(1) A new concrete diversion structure located across the North Gooding Main Canal with a maximum height of 10 feet; (2) a new 7,000-foot-long canal with a bottom width of 25 feet that is to be excavated from rock, with some earth embankment, having a hydraulic capacity of 350 cubic feet per second (cfs); (3) a 10-foot-high gated concrete diversion structure that would divert up to 350 cfs to a concrete intake structure; (4) a 2,900-foot-long steel pipe (or HDPE) penstock (72-inch-diameter); (5) a 30 by 50-foot concrete with masonry or metal walled powerhouse containing two 750-kilowatt (kW) turbines with a total installed capacity of 1,500 kW; (6) an enlarged 100-foot-long tailrace channel with a bottom width of 40 feet that would discharge into the North Gooding Main Canal; (7) a 2.4-mile-long transmission line, and (8) appurtenant facilities. The annual generation would be approximately 5.8 gigawatt-hours.

m. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

n. Scoping Process: Pursuant to the National Environmental Policy Act and procedures of the Federal Energy Regulatory Commission (Commission or FERC), the Commission staff intends to prepare an Environmental Assessment (EA) that evaluates the environmental impacts of issuing a new license for the Lateral 993 Hydroelectric Project, located at the juncture of the 993 Lateral and North Gooding Main Canal, Boise Meridian, 20 miles northwest of the Town of Shoshone, Lincoln County, Idaho.

The EA will consider both site-specific and cumulative environmental effects, if any, of the proposed action and reasonable alternatives, and will include an economic, financial, and engineering analysis. Preparation of staff's EA will be supported by a scoping process to ensure identification and analysis of all pertinent issues.

We prepared the enclosed Scoping Document 1 (SD1) to provide you with information on:

• The Lateral 993 Hydroelectric Project;

• The environmental analysis process we will follow to prepare the EA; and

• Our preliminary identification of issues that we will address in the EA.

We invite the participation of governmental agencies, non-governmental organizations, and the general public in the scoping process, and have prepared this SD1 to provide information on the proposed project and to solicit written comments and suggestions on our preliminary list of issues and alternatives to be addressed in the EA. The SD1 has been distributed to parties on the Service List for this proceeding and is available from our Public Reference Room at (202) 502-8371. It can also be accessed online at http://www.ferc.gov under the “FERRIS” link.

Given the fact that no comments have been filed to date related to the licensing, we do not anticipate at this time that there is adequate justification: (1) To arrange for Commission staff and interested members of the public to visit the project site; or (2) to hold a public meeting near the project site.

Please review this document and, if you wish to provide written input, follow the instructions contained in section 5.0. Please direct any questions about the scoping process to Allison Arnold at (202) 502-6346.

Magalie R. Salas,
Secretary.

[FR Doc. 03-5099 Filed 3-3-03; 8:45 am]

BILLING CODE 6717-01-P